DEPARTMENT OF TRANSPORTATION

Maritime Administration

[USCG-2010-0993]

Liberty Natural Gas LLC, Liberty Liquefied Natural Gas (LNG) Deepwater Port License Application

AGENCY: Maritime Administration, DOT.

ACTION: Notice of Application.

SUMMARY: The Maritime Administration and the U.S. Coast Guard announce they have received an application for the licensing of a natural gas deepwater port and the application contains the required information. This notice summarizes the applicant's plans and procedures that will be followed in considering the application.

DATES: The Deepwater Port Act of 1974, as amended, requires a public hearing on this application within 240 days of the publication of this notice, and a decision on the application not later than 90 days after the final public hearing.

ADDRESSES: The public docket for USCG-2010-0993 is maintained by the: Department of Transportation, Docket Management Facility, West Building, Ground Floor, Room W12-140, 1200 New Jersey Avenue, SE., Washington, DC 20590-0001.

The Federal Docket Management Facility accepts hand-delivered submissions, and makes docket contents available for public inspection and copying at this address between 9 a.m. and 5 p.m., Monday through Friday, except Federal holidays. The Facility telephone number is 202-366-9329, the fax number is 202-493-2251, and the Web site for electronic submissions or for electronic access to docket contents is http://www.regulations.gov.

FOR FURTHER INFORMATION CONTACT: Mr. Ray Martin, U.S. Coast Guard, telephone: 202-372-1449, e-mail: Raymond.W.Martin@uscg.mil or Ms. Yvette Fields, Maritime Administration, telephone: 202-366-0926, e-mail: Yvette.Fields@dot.gov. If you have questions on viewing the Docket, call Ms. Renee V. Wright, Program Manager, Docket Operations, telephone: 202-493-0402.

SUPPLEMENTARY INFORMATION:

Receipt of Application

On September 28, 2010, the Maritime Administration and U.S. Coast Guard received an application from Liberty Natural Gas LLC for all Federal authorizations required for a license to own, construct, and operate a deepwater port authorized under the Deepwater Port Act of 1974, as amended, 33 U.S.C. 1501 et seq. (the Act). On November 1, 2010, we determined the application contained all information required by the Act to initiate processing.

Background

According to the Act, a deepwater port is a fixed or floating manmade structure other than a vessel, or a group of structures, located beyond state seaward boundaries and used or intended for use as a port or terminal for the transportation, storage, and further handling of oil or natural gas for transportation to any state.

The Maritime Administrator possesses the authority to license a deepwater port (by delegation from the Secretary of Transportation, published on June 18, 2003 (68 FR 36496)). Statutory and regulatory requirements for licensing appear in 33 U.S.C. 1501 et seq. and in 33 CFR Part 148. Under delegations from, and agreements between, the Secretary of Transportation and the Secretary of Homeland Security, applications are jointly processed by the Maritime Administration and U.S. Coast Guard. Each application is considered on its own merits.

The Act imposes a strict timeline for processing an application. Once we determine that an application contains the required information, we must hold public hearings on the application within 240 days, and the Maritime Administrator must render a decision on the application within 330 days. We will publish additional Federal Register notices to inform you of these public hearings and other procedural milestones, including the environmental review. The Maritime Administrator's decision, and other key documents, will be filed in the public docket.

At least one public hearing must take place in each adjacent coastal state. Pursuant to the criteria provided in the Act, New Jersey and New York are adjacent coastal states for this application. Other states may apply for adjacent coastal state status in accordance with 33 U.S.C. 1508(a)(2).

Summary of the Application

Liberty Natural Gas, LLC, proposes to own, construct, and operate a natural gas deepwater port, known as Liberty Deepwater Port. It would be located approximately 16 miles off the coast of New Jersey to the east of Asbury Park in a water depth of approximately 100 to 120 feet. It will connect via offshore pipeline to a 9.2 mile onshore pipeline that will traverse through Perth Amboy, Woodbridge and Carteret in Middlesex County, New Jersey and terminate in Linden, Union County, New Jersey.

Liberty Deepwater Port would receive and transfer natural gas from purpose-build LNG regasification vessels (LNGRVs) with a total cargo tank capacity of approximately 145,000 m³. The vessels would be equipped to vaporize LNG cargo to natural gas through onboard closed loop vaporization systems and to odorize and meter gas for send-out by means of a Submerged Turret Loading™ (STL) buoy system. When the vessels are not present, the buoy would be submerged on a special landing pad on the seafloor, 100-120 feet below the sea surface. The top of the buoy would be approximately 50-70 feet below the surface of the water.

Liberty Deepwater Port would consist of up to four STL Buoy systems. Each buoy system would connect to an 18-inch diameter pipeline, called a Lateral, at a pipeline end manifold (PLEM) installed on the seafloor. The Laterals would be approximately 0.6 miles to 1 mile in length. Natural gas would flow through each Lateral to the 36-inch diameter, 44.37 mile long Offshore Pipeline. The Offshore Pipeline would connect to a 36-inch diameter, 9.2 mile long Onshore Pipeline that would traverse through Perth Amboy, Woodbridge and Carteret in Middlesex County, New Jersey and terminate in Linden, Union County, New Jersey. The Onshore Pipeline would connect to Transco and TETCO pipeline systems.

The Liberty Deepwater Port would be installed in two phases, with the first two STL Buoy systems and accompanying onshore and offshore pipeline infrastructure proposed to be installed and operational by the end of 2013. The second phase, consisting of an additional pair of STL Buoy systems and associated Laterals, would be constructed at a later date.

The Offshore Pipeline ultimately used by four STL Buoy systems will have a delivery capacity of approximately 2.4 billion cubic feet per day (bcf/d) of natural gas. Each LNGRV will have an average natural gas delivery capacity of 600 million cubic feet per day (MMcf/d) with a maximum capacity of 750 MMcf/d.

Liberty Natural Gas LLC is currently seeking Federal Energy Regulatory Commission (FERC) approval for the onshore pipelines. As required by FERC regulations, FERC will also maintain a docket for the FERC portion of the project. The docket number is CP11-10. The filing may also be viewed on the Web at http://www.ferc.gov using the “eLibrary” link. Enter the docket number excluding the last three digits in the docket number field to access the document. For assistance, call (866) 208-3767 or TYY, (202) 502-8659.

In addition, the deepwater port pipelines and structures, such as the STL moorings, may require permits under Section 404 of the Clean Water Act and Section 10 of the Rivers and Harbors Act, which are administered by the U.S. Army Corps of Engineers (USACE).

Liberty Deepwater Port may also require permits from the Environmental Protection Agency (EPA) pursuant to the provisions of the Clean Air Act, as amended, and the Clean Water Act, as amended.

The offshore and onshore pipelines will be included in the National Environmental Policy Act (NEPA) review as part of the deepwater port application process. FERC, EPA, and the USACE, among others, are cooperating agencies and will assist in the NEPA process as described in 40 CFR 1501.6; will be participating in the scoping meetings; and will incorporate the EIS into their permitting processes. Comments sent to the FERC docket, or to the EPA or USACE, will be incorporated into the DOT docket and considered as the EIS is developed to ensure consistency with the NEPA Process.

Should a license be issued, construction of the deepwater port would be expected to take approximately 18 months over a two-year period with startup of commercial operations following construction. The deepwater port would be designed, constructed and operated in accordance with applicable codes and standards.

Privacy Act

The electronic form of all comments received into the Federal Docket Management System can be searched by the name of the individual submitting the comment (or signing the comment, if submitted on behalf of an association, business, labor union, etc.). The DOT Privacy Act Statement can be viewed in the Federal Register published on April 11, 2000 (Volume 65, Number 70, pages 19477-78) or you may visit http://www.regulations.gov. Authority 49 CFR 1.66.

Dated: November 9, 2010.
By Order of the Maritime Administrator.
Christine Gurland,
Secretary, Maritime Administration.

[FR Doc. 2010-28881 Filed 11-16-10; 8:45 am]

BILLING CODE P